DEPARTMENT OF ENERGY

Federal Energy Regulatory Commission

[Project No. 14603-000]

Notice of Preliminary Permit Application Accepted for Filing and Soliciting Comments, Motions To Intervene, and Competing Applications: Alaska Power Company

On March 18, 2014, Alaska Power Company filed an application for a preliminary permit, pursuant to section 4(f) of the Federal Power Act (FPA), proposing to study the feasibility of the West Creek Water Power Project (West Creek Project or project) to be located on West Creek and the West Branch Taiya River, near Skagway, Alaska. The sole purpose of a preliminary permit, if issued, is to grant the permit holder priority to file a license application during the permit term. A preliminary permit does not authorize the permit holder to perform any land-disturbing activities or otherwise enter upon lands or waters owned by others without the owners' express permission.

The proposed project would consist of the following new facilities: (1) A 1,500-foot-long, 175-foot-high concrete gravity dam creating a 895-acre reservoir having a total storage capacity of 86,000 acre-feet at a normal maximum operating elevation of 780 feet mean sea level; (2) a water intake structure on the dam leading to a 15,900-foot-long, 10-foot-diameter, unlined tunnel; (3) a 60-foot by 150-foot powerhouse containing two turbine/generation units rated for a total of 25 megawatts; (4) a 100-foot-long by 80-foot-wide open channel tailrace returning water to the West Branch Taiya River; (5) a submarine 3.9-mile-long, 34.5-kilovolt transmission line extending from the powerhouse to a landing for a substation on Nahku Bay connected to an existing transmission line owned by the applicant (the point of interconnection); and (6) appurtenant facilities. The estimated annual generation of the West Creek Project would be 110 gigawatt-hours.

Applicant Contact: Glen D. Martin, Alaska Power Company, 193 Otto St., P.O. Box 3222, Port Townsend, WA 98368, (360) 385-1733 ext. 122.

FERC Contact: Ryan Hansen, phone: (202) 502-8074, or email ryan.hansen@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14603-000.

More information about this project, including a copy of the application, can be viewed or printed on the “eLibrary” link of Commission's Web site at http://www.ferc.gov/docs-filing/elibrary.asp. Enter the docket number (P-14603) in the docket number field to access the document. For assistance, contact FERC Online Support.

Dated: April 4, 2014.
Kimberly D. Bose,
Secretary.

[FR Doc. 2014-08056 Filed 4-9-14; 8:45 am]

BILLING CODE 6717-01-P